DEPARTMENT OF TRANSPORTATION

Federal Transit Administration

Public Transportation on Indian Reservations Program; Tribal Transit Program

AGENCY: Federal Transit Administration (FTA), DOT.

ACTION: Notice of Funding Availability: Solicitation of Grant Proposals for FY 2012 Tribal Transit Program Funds.

SUMMARY: The Federal Transit Administration (FTA) announces the availability of approximately $15 million in funding provided by the Public Transportation on Indian Reservations Program (Tribal Transit Program (TTP)) subject to the availability of funds by Congress, a program authorized by Section 3013(c) of the Safe, Accountable, Flexible, Efficient Transportation Equity Act: A Legacy for Users (SAFETEA-LU). This notice is a national solicitation for project proposals and includes the selection criteria and program eligibility information for FY 2012 projects.

The Surface and Air Transportation Programs Extension Act of 2011, Public Law No.112-30 continues the authorization of the Federal transit programs of the U.S. Department of Transportation (DOT) through March 31, 2012, and provides contract authority for this program equal to approximately one half of the amounts available in FY 2011. Subject to funding availability by Congress, FTA will fund the TTP with approximately $15 million.

This announcement is available on the FTA Web site at: http://www.fta.dot.gov. FTA may announce final selections on the Web site and in the Federal Register. Additionally, a synopsis of the funding opportunity will be posted in the FIND module of the government-wide electronic grants Web site at http://www.grants.gov.

DATES: Complete proposals for the Tribal Transit Program announced in this Notice must be submitted by 11:59 p.m. EDT on May 10, 2012. All proposals must be submitted electronically through the GRANTS.GOV APPLY function. Any tribe intending to apply should initiate the process of registering on the GRANTS.GOV site immediately to ensure completion of registration before the submission deadline. Instructions for applying can be found on FTA's Web site at http://www.fta.dot.gov/tribaltransit and in the “FIND” module of GRANTS.GOV.

FOR FURTHER INFORMATION CONTACT: Contact the appropriate FTA Regional Office found at http://www.fta.dot.gov for proposal-specific information and issues. For general program information, contact Cathy Monroe, Tribal Transit Program, (816) 329-3929, email: cathy.monroe@dot.gov or the Office of Program Management at (202) 366-2053. A TDD is available at 1-800-877-8339 (TDD/FIRS).

SUPPLEMENTARY INFORMATION:

Table of Contents

I. Overview

II. Program Purpose

III. Program Information

A. Eligible Applicants

B. Eligible Projects

C. Cost Sharing and Matching

D. Proposal Content

E. Evaluation Criteria

F. Review and Selection Process

IV. Technical Assistance and Other Program Information

Appendix A: FTA Regional Tribal Liaisons

Appendix B: Tribal Transit Program Technical Assistance Contacts

I. Overview

Section 3013(c) of SAFETEA-LU, Public Law 109-59 (August 10, 2005) amended 49 U.S.C. 5311(c) by establishing the Public Transportation on Indian Reservations Program (Tribal Transit Program or TTP). This program authorizes direct grants “under such terms and conditions as may be established by the Secretary” to Indian tribes for any purpose eligible under FTA's Nonurbanized Area Formula Program, 49 U.S.C. 5311 (Section 5311 program). Approximately $15 million is expected to be available for the Tribal Transit Program discretionary allocation and may include other discretionary program funds that become available. The total amount of funding available will be contingent on Congressional authorization prior to the selection of awardees, and based on the timing of such funding becoming available, may also include funding appropriated for Fiscal Year 2013.

II. Program Purpose

TTP funds are to be allocated for grants to Federally-recognized Indian tribes for any purpose eligible under the Section 5311 program. The Conference Report that accompanied SAFETEA-LU indicated that the funds set aside for Indian tribes in the TTP are not meant to replace or reduce funds that Indian tribes receive from States through FTA's Section 5311 program. TTP funds are meant to complement any 5311 funds that applicants may be receiving. Tribal transit funds will be competitively allocated to support planning, capital, and operating assistance for tribal public transit services.

III. Program Information

A. Eligible Applicants

Eligible applicants include Federally-recognized Indian tribes or Alaska Native villages, groups, or communities as identified by the U.S. Department of Interior (DOI), Bureau of Indian Affairs (BIA). As evidence of Federal recognition, a tribe may submit a copy of the most up-to-date Federal Register notice published by DOI, BIA: Entities Recognized and Eligible to Receive Service from the United States Bureau of Indian Affairs. To be an eligible recipient, a tribe must have the requisite legal, financial and technical capabilities to receive and administer Federal funds under this program. Applicants must be registered in the Central Contractor Registration (CCR) database and maintain an active CCR registration with current information at all times during which it has an active Federal award or an application or plan under consideration by FTA.

B. Eligible Projects

Grants can be awarded to eligible applicants located in rural and small urban areas with populations under 50,000 not identified as an urbanized area by the Bureau of the Census and may be used for public transportation capital projects, operating costs of equipment and facilities for use in public transportation, planning, and the acquisition of public transportation services, including service agreements with private providers of public transportation services. Under the Americans with Disabilities Act of 1990 (ADA), 42 U.S.C. 12101 et seq., public fixed-route operators are required to provide ADA complementary paratransit service to individuals who are unable to use a fixed route due to their disability or a fixed route being inaccessible. Coordinated human service transportation that primarily serves seniors and persons with disabilities, but that is not restricted from carrying other members of the public, is considered available to the general public if it is marketed as public transportation. Examples of eligible TTP projects are capital and operating expenses for new transit service (e.g. start up), capital and operating expenses for continuation or expansions of existing transit services, and operational planning. Additionally, eligible applicants may apply for planning grants of up to $25,000 for planning studies.

C. Cost Sharing and Matching

Projects selected for funding under the TTP can be funded up to a 100 percent Federal share of project costs. However, FTA is interested in the tribe's financial commitment to the proposed project and requests tribes include a description of their financial commitment to the proposed project in the proposal.

D. Proposal Content (All Applicants Must Completely Respond to Items in Section D To Be Considered for TTP Funding)

1. Proposal Submission Process

Project proposals must be submitted electronically through http://www.GRANTS.GOV by 11:59 p.m. EDT on May 10, 2012. Mail and fax submissions will not be accepted.

A complete proposal submission will consist of at least two files: (1) the SF 424 Mandatory form (downloaded from GRANTS.GOV) and (2) the Tribal Transit supplemental form found on the FTA Web site at http://www.fta.dot.gov/tribaltransit.

The Tribal Transit supplemental form provides guidance and a consistent format for applicants to respond to the criteria outlined in this Notice of Funding Availability (NOFA). Once completed, the applicant must place the supplemental form in the attachments section of the SF 424 Mandatory form. Applicants must use the supplemental form designated for TTP and attach it to their submission in GRANTS.GOV to successfully complete the application process. A proposal submission may contain additional supporting documentation as attachments.

Within 24-48 hours after submitting an electronic application, the applicant should receive three email messages from GRANTS.GOV: (1) Confirmation of successful transmission to GRANTS.GOV; (2) confirmation of successful validation by GRANTS.GOV; and (3) confirmation of successful validation by FTA. If the applicant does not receive confirmations of successful validation and instead receives a notice of failed validation or incomplete materials, the applicant must address the reason for the failed validation or incomplete materials, as described in the notice, and resubmit the proposal before the submission deadline. If making a resubmission for any reason, the applicant must include all original attachments regardless of which attachments are updated and check the box on the supplemental form indicating this is a resubmission.

Complete instructions on the application process can be found at http://www.fta.dot.gov/tribaltransit. Important: FTA urges applicants to submit their project proposals at least 72 hours prior to the due date to allow time to receive the validation message and to correct any problems that may have caused a rejection notification. FTA will not accept submissions after the stated submission deadline. GRANTS.GOV scheduled maintenance and outage times are announced on the GRANTS.GOV Web site http://www.GRANTS.GOV. The deadline will not be extended due to scheduled maintenance or outages.

Applicants may submit one proposal for each project or one proposal containing multiple projects. Applicants submitting multiple projects in one proposal must be sure to clearly define each project by completing a supplemental form for each project. Additional supplemental forms must be added within the proposal by clicking the “add project” button in Section II of the supplemental form.

Information, such as applicant name, Federal amount requested, description of areas served, and other information may be requested in varying degrees of detail on both the SF 424 form and supplemental form. Applicants must fill in all fields unless stated otherwise on the forms. Applicants should use both the “Check Package for Errors” and the “Validate Form” validation buttons on both forms to check all required fields on the forms, and ensure that the Federal and local amounts specified are consistent.

The following information MUST be included on the SF 424 and supplemental forms for all requests for TTP funding:

2. Proposal Information

i. Name of Federally-recognized tribe and, if appropriate, the specific tribal agency submitting the application.

ii. Dun and Bradstreet (D&B) Data Universal Numbering System (DUNS) number if available. (Note: If selected, applicant will be required to provide DUNS number prior to grant award).

iii. Contact information including: Contact name, title, address, congressional district, fax and phone number, and email address if available.

iv. Description of public transportation services including areas currently served by the tribe, if any.

v. Name of person (s) authorized to apply on behalf of the tribe (attach a signed transmittal letter) must accompany the proposal.

3. Project Information

i. Project Description: Indicate the category for which funding is requested; i.e., start-ups, continuation, expansion or replacements of existing transit services, capital, operational planning, and planning studies. Provide a summary description of the proposed project and how it will be implemented (e.g., number and type of vehicles, routes, service area, schedules, type of services, fixed route or demand responsive), route miles (if fixed route), ridership numbers (actual if an existing system, estimated if a start up system), major origins and destinations, population served, and whether the tribe provides the service directly or contracts for services and how vehicles will be maintained.

ii. Project Timeline: Include significant milestones such as date of contract for purchase of vehicle(s), actual or expected delivery date of vehicles, and operation of service dates. If applying for operational funding, state time period funds will operate the system (e.g. one year).

iii. Budget: A detailed budget including the Federal amount requested for each purpose for which funds are sought and any funding from other sources that will be provided. A tribe may allow up to fifteen percent of the grant award for planning and the indirect costs rate may not exceed ten percent (if necessary add as an attachment).

4. Technical, Legal, Financial Capacity

Tribes that cannot demonstrate adequate capacity in technical, legal and financial areas will not be considered for funding. Every proposal MUST describe the tribe's technical, legal, and financial capacity to implement the proposed project.

i. Technical Capacity: Provide examples of the tribe's management of other Federal projects. What resources does the tribe have to implement the proposed transit project?

ii. Legal Capacity: Provide documentation or other evidence to show that the applicant is a Federally-recognized tribe and has an authorized representative to execute legal agreements with FTA on behalf of the tribe. If applying for capital or operating funds, does the tribe have appropriate Federal or State operating authority?

iii. Financial Capacity: Does the tribe have adequate financial systems in place to receive and manage a Federal grant? Describe the tribe's financial systems and controls.

E. Evaluation Criteria

FTA will divide proposals into three categories for evaluation. The three evaluation categories are as follows:

• Start-ups—Proposals for funding of new transit service include capital, operating, administration, and planning.

• Continuation of Transit Services—Proposals for funding of continuation or expansion of existing transit services include capital, operating, administration, and planning.

• Planning—Proposals for planning include funding of transit planning studies.

Applications will be grouped into their respective category for review and scoring purposes.

1. Evaluation Criteria for Start-ups and Continuation of Transit Services

i. Planning and Local/Regional Prioritization

In this section, the applicant should describe how the proposed project was developed and demonstrate that there is a sound basis for the project and that the applicant is ready to implement the project if funded. Information may vary depending upon how the planning process for the project was conducted. Planning and local/regional prioritization should consider and address the following areas:

a. Describe the planning document and/or the planning process conducted to identify the proposed project.

b. Provide a detailed project description including the proposed or existing service, vehicle and facility needs, and other pertinent characteristics of the proposed or existing service implementation.

c. Identify existing transportation services in and near the proposed or existing service area and document in detail whether the proposed project will provide opportunities to coordinate service with existing transit services, including human service agencies, intercity bus services, or other public transit providers.

d. Discuss the level of support by the community and/or tribal government for the proposed project.

e. Describe how the mobility and client-access needs of tribal human service agencies were considered in the planning process.

f. Describe what opportunities for public participation were provided in the planning process and how the proposed transit service or existing service has been coordinated with transportation provided for the clients of human service agencies, with intercity bus transportation in the area, or with any other rural public transit providers.

g. Describe how the proposed or existing service complements rather than duplicates any currently available services.

h. Describe the implementation schedule for the proposed project, including time frame, staffing, and procurement.

i. Describe any other planning or coordination efforts that were not mentioned above.

ii. Demonstration of Need:

In this section, the proposal should demonstrate the transit needs of the tribe and discuss how the proposed transit improvements or continuation of service will or are addressing the identified transit needs. Proposals should include information such as destinations and services not currently accessible by transit, needs for access to jobs or health care, special needs of seniors and individuals with disabilities, income-based community needs, or other mobility needs. If the proposal is for funding to continue existing service, applicants should include information on ridership, a description of the service, including how the existing service is meeting the needs of the tribe, how the TTP funds are needed to continue the services currently being provided, and a description of how the tribe would be impacted by reduced resources, including potential service disruptions, cancellation or reduction of service, etc. If an applicant received a planning grant in previous fiscal years, it should indicate the status of the planning study and how the proposed project relates to that study.

Based on the information provided, the proposals will be rated on whether there is a demonstrated need for the project and how well the proposed project will fulfill the need.

iii. Demonstration of Benefits:

In this section, proposals should identify expected or, in the case of existing service, achieved, project benefits. Possible examples include increased or sustained ridership and daily trips, improved service, improved operations and coordination, and economic benefits to the community.

Benefits can be demonstrated by identifying the population of tribal members and non-tribal members in the proposed project service area and estimating the number of daily one-way trips the proposed transit service will provide or the actual number of individual riders and trips on existing service. There may be many other, less quantifiable, benefits to the tribe and surrounding community from the proposed project. Applicants should document, explain or show the benefits in whatever format is reasonable to present them.

Based on the information provided, proposals will be rated based on four factors:

a. Will the project improve transit efficiency or increase ridership?

b. Will the project improve or maintain mobility for the tribe?

c. Will the project improve or maintain access to important destinations and services?

d. Are there other qualitative benefits?

iv. Note on Continuation of Transit Projects Funded with FY 2006—FY 2011 TTP funding:

If an applicant is requesting FY 2012 funding to continue a transit service project funded previously with TTP resources, the applicant must demonstrate that the project(s) are in an active status. Active status means the project is currently operating and the tribe has exhibited effective grant management of the project. Applicants should describe in the proposal the status of previous TTP awards and grants, including services currently being provided and how the requested funding will complement the existing service or is necessary to maintain the existing services. As part of the review process, FTA regional offices will also verify prior year management, implementation, and compliance with FTA reporting requirements. If the applicant submitted an application for a prior year competition and was not selected for funding, the applicant should note any impacts to service. The applicant should provide any data that would be helpful to project evaluators, e.g., ridership, increased service hours, extended service routes, or stops.

v. Financial Commitment and Operating Capacity:

In this section, the proposal should identify any other funding sources used by the tribe to support existing or proposed transit services, including human service transportation funding, Indian Reservation Roads, or other FTA programs such as Job Access and Reverse Commute, New Freedom, Section 5311, Section 5310, or Section 5309 Bus and Bus Facilities. If applicable, the applicant should also describe how prior year TTP funds have been spent to date to support the service.

For existing services, the proposal should show how TTP funding will supplement (not duplicate or replace) current funding sources. If the transit system was previously funded under section 5311 through the State's apportionment, describe how requested TTP funding will expand available services or continue critical existing services.

The proposal should describe any other resources the tribe will contribute to the project, including in-kind contributions, commitments of support from local businesses, donations of land or equipment, and human resources, and describe to what extent the new project or funding for existing service leverages other funding.

The applicant should show its ability to manage programs by demonstrating the existing programs it administers in any area of expertise such as human services. Based upon the information provided, the proposals will be rated on the extent to which the proposal demonstrates that:

a. This project provides new services, maintains or complements existing service;

b. TTP funding does not replace existing funding;

c. The tribe has or will provide non-financial support to project;

d. The tribe has demonstrated the ability to provide other services or manage other programs; and

e. Project funds are used in coordination with other services for efficient utilization of funds.

vi. Evaluation Criteria for Planning Proposals

For planning grants, the proposal should describe, in no more than three pages, the need for and a general scope of the proposed study. The proposal should also address the following:

a. What is the tribes' long-term commitment to transit?

b. How will the proposed study implement and/or further tribal transit?

F. Review and Selection Process

In addition to other FTA staff that may review the proposals, a technical evaluation committee will review proposals under the project evaluation criteria. Members of the technical evaluation committee and other involved FTA staff reserve the right to screen and rate the applications it receives and to seek clarification from any applicant about any statement in its application that FTA finds ambiguous and/or request additional documentation to be considered during the evaluation process to clarify information contained within the proposal.

After consideration of the findings of the technical evaluation committee, the FTA Administrator will determine the final selection and amount of funding for each project. Geographic diversity and the applicant's receipt and management of other discretionary awards may be considered in FTA's award decisions. FTA expects to announce the selected projects and notify successful applicants in August 2012.

Once successful applicants are announced, they will work with the appropriate Regional office to develop a grant application consistent with the selected proposal in FTA's Transportation Electronic Award Management System (TEAM).

IV. Technical Assistance and other Program Information

This program is not subject to Executive Order 12372, “Intergovernmental Review of Federal Programs.” FTA will consider applications for funding only from eligible recipients for eligible projects listed in Section III. Due to funding limitations, applicants that are selected for funding may receive less than the amount requested.

Complete applications must be submitted through GRANTS.GOV by May 10, 2012. Applicants may receive technical assistance for application development by contacting their FTA regional tribal liaison, or the National Rural Transportation Assistance Program office. Contact information for FTA's regional offices can be found on FTA's Web site at www.fta.dot.gov. A list of FTA regional Tribal Liaisons are included in Appendix A.

Issued in Washington, DC, this 6th day of March, 2012.
Peter Rogoff,
Administrator.

Appendix A

FTA Regional Tribal Liaisons
Region 1—Boston | Region 6—Ft. Worth
Regional Tribal Liaisons: Laurie Ansaldi and Judi Molloy. | Regional Tribal Liaison: Lynn Hayes.
States served: Connecticut, Maine, Massachusetts, New Hampshire, Rhode Island, and Vermont. | States served: Arkansas, Louisiana, Oklahoma, New Mexico and Texas.
Region 2—New York | Region 7—Kansas City, MO
Regional Tribal Liaison: Darin Allan. | Regional Tribal Liaisons: Joni Roeseler and Cathy Monroe.
States served: New Jersey, New York New York Metropolitan Office. | States served: Iowa, Kansas, Missouri, and Nebraska.
Region 3—Philadelphia | Region 8—Denver
States served: Delaware, Maryland, Pennsylvania, Virginia, West Virginia, and District of Columbia. | Regional Tribal Liaisons: Jennifer Stewart and David Beckhouse. States served: Colorado, Montana, North Dakota, South Dakota, Utah, and Wyoming.
Region 4—Atlanta | Region 9—San Francisco
Regional Tribal Liaison: Tajsha LaShore. | Regional Tribal Liaison: Eric Eidlin.
States served: Alabama, Florida, Georgia, Kentucky, Mississippi, North Carolina, Puerto Rico, South Carolina, Tennessee, and Virgin Islands. | States served: American Samoa, Arizona, California, Guam, Hawaii, Nevada, and the Northern Mariana Islands.
Region 5—Chicago | Region 10—Seattle
Regional Tribal Liaisons: Joyce Taylor and Angelica Salgado. | Regional Tribal Liaison: Bill Ramos.
States served: Illinois, Indiana, Michigan, Minnesota, Ohio, and Wisconsin. | States served: Alaska, Idaho, Oregon, and Washington.

Appendix B

Technical Assistance Contacts

Alaska Tribal Technical Assistance Program

Kim Williams, University of Alaska, Fairbanks, P.O. Box 756720, Fairbanks, AK 99775-6720, (907) 842-2521, (907) 474-5208, williams@nushtel.net, http://community.uaf.edu/~alaskattac.

Service area: Alaska.

National Indian Justice Center

Raquelle Myers, 5250 Aero Drive, Santa Rosa, CA 95403, (707) 579-5507 or (800) 966-0662, (707) 579-9019, nijc@aol.com, http://www.nijc.org/ttap.html.

Service area: California, Nevada.

Tribal Technical Assistance Program at Colorado State University

Ronald Hall, Rockwell Hall, Room 321, Colorado State University, Fort Collins, CO 80523-1276, (800) 262-7623, (970) 491-3502, ronald.hall@colostate.edu, http://ttap.colostate.edu/.

Service area: Arizona, Colorado, New Mexico, Utah.

Tribal Technical Assistance Program (TTAP)

Bernie D. Alkire, 301-E Dillman Hall, Michigan Technological University, 1400 Townsend Drive, Houghton, MI 49931-1295, (888) 230-0688, (906) 487-1834, balkire@mtu.edu, http://www.ttap.mtu.edu/.

Service area: Alabama, Arkansas, Connecticut, Delaware, Florida, Georgia, Illinois, Indiana, Iowa, Kentucky, Louisiana, Maine, Maryland, Massachusetts, Michigan, Minnesota, Mississippi, Missouri, New Hampshire, New Jersey, New York, North Carolina, Ohio, Pennsylvania.

Northern Plains Tribal Technical Assistance Program

Dennis Trusty, United Tribes Technical College, 3315 University Drive, Bismarck, ND 58504, (701) 255-3285 ext. 1262, (701) 530-0635, nddennis@hotmail.com, http://www.uttc.edu/forum/ttap/ttap.asp.

Service area: Montana (Eastern), Nebraska (Northern), North Dakota, South Dakota, Wyoming.

Northwest Tribal Technical Assistance Program

Richard A. Rolland, Eastern Washington University, Department of Urban Planning, Public & Health Administration, 216 Isle Hall, Cheney, WA 99004, (800) 583-3187, (509) 359-7485, rrolland@ewu.edu, http://www.ewu.edu/TTAP/.

Service area: Idaho, Montana (Western), Oregon, Washington.

Tribal Technical Assistance Program at Oklahoma State University

James Self, Oklahoma State University, 5202 N. Richmond Hills Road, Stillwater, OK 74078-0001, (405) 744-6049, (405) 744-7268, jim.self@okstate.edu, http://ttap.okstate.edu/.

Service area: Kansas, Nebraska (Southern), Oklahoma, Texas.

Other Technical Assistance Resources

National RTAP (National Rural Transit Assistance Program)

Contact: Patti Monahan, National RTAP, 5 Wheeling Ave, Woburn, MA 01801, (781) 404-5015 (Direct), (781) 895-1122 (Fax), (888) 589-6821 (Toll Free), pmonahan@nationalrtap.org, www.nationalrtap.org.

Community Transportation Association of America

The Resource Center—800-891-0590, http://www.ctaa.org/.

[FR Doc. 2012-5819 Filed 3-8-12; 8:45 am]

BILLING CODE 4910-57-P